DEPARTMENT OF LABOR

Employment and Training Administration

Notice of Availability of Funds and Solicitation for Grant Applications (SGA) to Fund Demonstration Projects

Agency: Employment and Training Administration, U.S. Department of Labor.

Announcement Type: New, Notice of Solicitation for Grant Applications (SGA).

Funding Opportunity Number: SGA/DFA PY 09-10.

Catalog of Federal Assistance Number: 17.261.

Summary: The U.S. Department of Labor (DOL), Employment and Training Administration (ETA), announces the availability of $12.2 million from funds made available through the FY 2010 DOL budget for Training and Employment Services for grants to State Workforce Agencies (SWA) to develop the Workforce Data Quality Initiative (WDQI). Grants awarded will provide SWAs the opportunity to develop and use State workforce longitudinal administrative data systems. These State longitudinal data systems will, at a minimum, include information on programs that provide training, employment services, and unemployment insurance and will be linked longitudinally at the individual level to allow for analysis which will lead to enhanced opportunity for program evaluation and lead to better information for customers and stakeholders of the workforce system. Where such longitudinal systems do not exist or are incipient, WDQI grant assistance may be used to design and develop workforce data systems that are longitudinal and which are designed to link with relevant education data or longitudinal education data systems. WDQI grant assistance may also be used to improve upon and more effectively use existing State longitudinal systems.

This solicitation provides background information on workforce longitudinal database systems, describes the application submission requirements, outlines the process that eligible entities must use to apply for funds covered by this solicitation, and details how grantees will be selected.

DATES: Key Dates: The closing date for receipt of applications under this announcement is August 16, 2010. Applications must be received at the address below no later than 4 p.m. (Eastern Time). Application and submission information is explained in detail in Section IV of this SGA. A pre-recorded Webinar for prospective applicants will be online at: http://www.workforce3one.org and available for viewing on June 21, 2010, by 3 p.m. ET, and accessible any time after that date. Reviewing this Webinar is not mandatory but applicants are encouraged to take advantage of this resource to get questions answered.

ADDRESSES: Mailed applications must be addressed to the U.S. Department of Labor, Employment and Training Administration, Division of Federal Assistance, Attention: Willie E. Harris, Grant Officer, Reference SGA/DFA PY 09-10, 200 Constitution Avenue, NW., Room N4716, Washington, DC 20210. Applications sent via facsimile (fax), telegram or e-mail will not be accepted. Information about applying online also can be found in Section IV.C of this document. Applicants are advised that mail delivery in the Washington, DC area may be delayed due to mail decontamination procedures. Hand-delivered proposals will be received at the above address.

SUPPLEMENTARY INFORMATION:

A. Grant Purpose

The WDQI will provide funding to selected SWAs to accomplish a combination of the following objectives:

i. Develop or improve State workforce longitudinal data systems. Workforce data are already reported by localities, States, and nationally so grantees will not be creating entirely new data collection systems. What will be new, however, is coordinating, or expanding/strengthening the coordination of these workforce data sources so individual-level records can be matched to one another across programs and over time.

ii. Enable workforce data to be matched with education data, to ultimately create longitudinal data systems with individual-level information from pre-kindergarten (pre-K) through post-secondary and into the workforce system to build capacity to measure outcomes while protecting individual privacy. For many years DOL has supported efforts to create workforce longitudinal administrative databases linked to data from other programs, including education data. The WDQI will greatly extend and expand this effort and complement the Statewide Longitudinal Data Systems (SLDS) grant program administered by the Department of Education (ED).

iii. Improve the quality and breadth of the data in workforce longitudinal data systems. It is important that data in the longitudinal systems are complete and accurate and include an array of performance information in order to enhance knowledge about the workforce system and the impact of State workforce development programs. Data collection systems might also be improved to strengthen data validity and to minimize the reporting burden on State agencies and training providers.

iv. Use longitudinal data to provide useful information about program operations and analyze the performance of education and training programs. Policymakers and practitioners can use this data analysis to make programmatic adjustments that improve the workforce system.

v. Provide user-friendly information to consumers to help them select the education and training programs that best suit their needs. For example, Washington State displays information about training program outcomes at http://www.careerbridge.wa.gov, allowing consumers to compare the performance of different training providers.

The relative prominence of each objective for a given State will primarily be determined by the State's “launch-point” for developing a workforce longitudinal data system that will ultimately be linkable to education data and will reflect high data quality standards while protecting individual privacy (see the Section I.A.5). Additional details on the “launch point” for States can be found in the section of this SGA in Section I.A.1.

B. Background

President Obama's FY 2010 Budget requested $15 million and the Congress appropriated over $12 million for the development of workforce longitudinal data systems. Single-state applicants can qualify for up to $1 million in funding. Multi-state consortium applicants are eligible for a grant amount of up to $3 million (see Section III.A for more information on funding eligibility).

These funds will be made available through competitive WDQI grants administered by DOL in support of a parallel and much larger effort, the SLDS grants. The American Recovery and Reinvestment Act (Recovery Act) appropriated $245 million to ED to support statewide (or in some cases, multi-State consortia) longitudinal education data systems with data on individuals participating in pre-K through grade 12 as well as post-secondary education and the workforce. The grant instructions for ED's SLDS program expressly include provisions to capture the data on workforce participation of students before and after they leave education systems. A request for applications was issued by ED on July 24, 2009, and applications were due December 4, 2009. The grants are scheduled to be awarded in May 2010.

Some innovative States already have shown the advantages of SWAs partnering with education and other entities to create comprehensive, longitudinal data systems. The State of Florida, for example, has developed a comprehensive system that links individuals' demographic information, high school transcripts, college transcripts, quarterly unemployment insurance (UI) wage data, and workforce services data. Such data systems can provide valuable information to consumers, practitioners, policymakers, and researchers about the performance of education and workforce development programs.

As with the above section and for the remainder of this document, reference to the databases being created under the WDQI may be called “workforce longitudinal administrative databases” or “workforce longitudinal databases” interchangeably.

C. Classification of Workforce System Data

Workforce system administrative data are collected as part of the operations of a variety of programs administered at the State and local level. These programs provide employment and training services, pay UI benefits to unemployed workers, and collect employer-paid UI payroll taxes that pay for UI benefits. The employment and training data come from a number of large and small workforce programs that provide employment and/or training services to employed and unemployed workers. Information is available for each service that is provided to each worker by each program. Below are examples of the most common types of workforce data.

i. Wage Records: The UI administrative data come from State UI programs through regular employer reporting on contributions to the UI payroll tax system. An important source of data on the employment and earnings of American workers comes from these UI wage record reports that are derived from the tax forms on covered establishments' wage and salary employment filed quarterly by employers. UI wage record reports include: The number of workers, worker names, Social Security numbers, earnings, and employers' industry codes and locations. UI wage records are comprehensive, as over 90 percent of wage and salary employment is in covered establishments. Data are also available for civilian and military Federal employees, but not for the self-employed.

ii. Employment and Training Services: Each of the workforce system programs provides employment and/or training services to unemployed, underemployed or employed individuals. Some programs also provide services to new entrants to the labor market (with the exception of the UI program). Data on types of employment and training services received, such as self-service and informational activities, prevocational services, and specific training services, are available from a number of workforce programs including those authorized under the Workforce Investment Act of 1998 (WIA), the Wagner-Peyser Act, from the Trade Adjustment Assistance program, the Registered Apprenticeship program and other workforce programs. Transaction information is available for each service (e.g., training receipt, job referral, job search assistance) that is provided to participants in each program, together with their personal characteristics and other demographic information. Not only is information provided on participation numbers for employment services and training programs, information includes employment status, pre-program earnings, occupation of employment, and education participation or completion levels of individuals.

iii. Unemployment Insurance Benefits: The UI program also collects data on applicants for and recipients of UI benefits, including the number of persons that apply for UI benefits, the number that collect benefits, and the amount of benefits paid. Administrative data collected in the UI benefit claims process include worker demographic information such as age, former occupation and industry, in addition to residency information (including the street, city, State, and ZIP code).

iv. The Federal Employment Data Exchange System (FEDES): This data system provides States access to Federal civilian and military employment and earnings records maintained by the Office of Personnel Management, the Department of Defense and the U.S. Postal Service.

Data for all of these programs can be linked for any worker because all of these programs collect the Social Security Number of the participating individual. Workforce data can determine whether individuals have been employed, what their earnings and industry of employment are if they work, whether they become unemployed, whether they collect unemployment insurance upon unemployment, what employment services they receive from SWAs, and whether they use training services.

D. Workforce Longitudinal Administrative Data Systems That Are in Place or in Progress

From a recent survey conducted by the National Association of State Workforce Agencies (NASWA), DOL received information about the current extent of matching State education agency data with SWA data. The information was compiled from responses from the SWA research directors. Thirty-one responses were received from the 53 jurisdictions that have UI programs. These results are supported by recent data gathered through Carl D. Perkins Act accountability reporting which found that 31 States use UI wage records to determine employment after leaving post-secondary education.

DOL also has supplementary information on the development of workforce longitudinal databases from a consortium of nine States that currently maintain longitudinal administrative data. ETA has had a longstanding contractual relationship with this consortium of States to conduct workforce research, analysis, and evaluations. This group is called the Administrative Data Research and Evaluation Project (ADARE) alliance,¹ and the members are California, Florida, Georgia, Illinois, Maryland, Missouri, Ohio, Texas, and Washington. DOL has funded the ADARE project since 1998.² However, recently funds have not been available to support research and analysis to make full use of the linkage between longitudinal workforce and education data. Nonetheless, the ADARE partners have developed working relationships with State education or research entities (except for the Florida ADARE partner which is the State education agency).

¹ Administrative Data Research and Evaluation (ADARE) Alliance Web site. 2009. http://www2.ubalt.edu/jfi/adare/.

² Stevens, David W. 2004. Responsible Use of Administrative Records for Performance Accountability: Features of Successful Partnerships. http://www.ubalt.edu/jfi/adare/reports/ADAREcookbook504.pdf.

These two sources of information (the NASWA survey and the ADARE States) indicate that the extent of data matching and development of longitudinal data systems varies:

i. About 20 States currently do not have their State workforce data arranged in longitudinal databases, nor do they match their workforce data with education data.

ii. Almost 20 States do conduct some workforce data matching with State educational data, but they do not have State workforce data collected and arranged longitudinally.

iii. About a dozen States have substantial State workforce longitudinal databases, and almost all of these databases have been linked to available State educational data (both longitudinal and non-longitudinal data sets). Most of these States are part of the ADARE consortium.

The goal of the WDQI is to substantially reduce this variation and build stronger longitudinal data systems through workforce data matching which can link to education data.

E. Existing State Examples of Workforce Longitudinal Data Systems

Altogether, about a dozen States (including the nine ADARE States) have developed substantial State workforce longitudinal data systems. Most of these States created these systems using State funds for a variety of applications, including tracking program performance, analyzing program activities and conducting research and analysis. A small number of these States have accumulated workforce and other longitudinal data for several decades.

As of 2009, nine States continued to participate in the ADARE alliance—California, Florida, Georgia, Illinois, Maryland, Missouri, Ohio, Texas and Washington. All but two—Florida and Washington—use a State research university to assemble, house, and analyze their data. In all cases, cooperative arrangements through memoranda of understanding and data-sharing agreements have been developed, to enable the State WIA, Wagner-Peyser Act, and unemployment insurance programs to share their workforce data as input to the workforce longitudinal administrative database.

In all cases, State agencies receive analyses and reports derived from the databases that can be used to understand and improve workforce programs. However, each State has initiated and operated its workforce longitudinal data system in a different manner.

WDQI applicants may be able to learn from the various approaches of the ADARE States. These ADARE models form a useful set of examples for any SWA considering applying for a WDQI grant. While innovation is encouraged, applicants should make full use of the existing knowledge and various models for building workforce longitudinal databases that have been developed in this field. Provided below is a brief description of four different State approaches that highlight successful workforce longitudinal databases models and applications of the information these databases provide.

1. University-led Partnership to Manage Statewide Data-Sharing—Maryland: In Maryland, the research component of longitudinal data-sharing was prioritized at the outset of the partnership between the Jacob France Institute of the University of Maryland-Baltimore County and the Maryland SWA, now the Maryland Department of Labor, Licensing and Regulation (DLLR). The Jacob France Institute has been authorized through data-sharing agreements with DLLR and various other State agencies to hold primary performance evaluation responsibilities for Maryland's WIA Title I-B (Adult, Dislocated Worker and Youth employment and training services), Title II (Adult Education and Literacy) and Title IV (Vocational Rehabilitation) programs, TANF High Performance Bonus Indicator Calculations, and core indicators of the Carl D. Perkins Act secondary and post-secondary adult vocational education and training services. As the steward of this performance reporting system, the Jacob France Institute has formed partnerships with the Governor's Workforce Investment Board, the Maryland Higher Education Commission, the Maryland State Department of Education, the Maryland Department of Business and Economic Development, the Maryland Department of Human Resources, the University System of Maryland, and locally with the Montgomery County Public Schools, the Baltimore City Public Schools, the Empower Baltimore Management Corporation, and individual community colleges.

In addition to statewide data-sharing, the Jacob France Institute has been awarded grant funds to develop multi-state longitudinal data-sharing systems among Delaware, the District of Columbia, New Jersey, Ohio, Pennsylvania, Virginia and West Virginia. This model of interstate data-sharing captures workforce and education data for individuals who are mobile in their pursuit of employment, training or education.

2. University-led Partnership With Common Performance Management System—Illinois: The longitudinal data system developed in Illinois is an example of a productive evolution of data-sharing among State agencies and educational institutions. In the mid-1980s the Center for Governmental Studies (Center) at Northern Illinois University connected with the Department of Commerce and Community Affairs (DCCA) and the Illinois Department of Employment Security (IDES) to link UI wage records to program participant records under the Job Training Partnership Act (JTPA). Less than a decade later, after having established themselves as an authority on linking administrative databases, the Center was awarded a grant to fund a project linking UI administrative data from multiple States.

Beginning in 1994, the Center undertook a project to develop and implement a common performance management framework which led to the Illinois Common Performance Management System (ICPMS) linking UI wage records with client data from JTPA workforce development programs, adult education, primary and secondary vocational education, and welfare-to-work. With the implementation of WIA, the Center began a project to expand its administrative database longitudinally to include historical archives of UI wage records which were easily accessible. The Center benefits from the partnership by gaining access to data which allows for in-depth research. Likewise, the Illinois workforce agencies benefit from being able to use the database and related research to improve system performance. The partnership is based on transparency and cooperation and has led to analysis of longitudinal data that has influenced frontline program management and public policy.

3. Vendor Contracted Analysis of Longitudinal Data—Washington: The Washington State longitudinal administrative database began as a DOL project in the late 1970s and early 1980s, but has been maintained and expanded by Washington State since that time. Today, Washington State provides an alternative model for developing statewide longitudinal administrative databases of workforce and education information. The State workforce investment board (the Washington State Workforce Training and Education Coordinating Board or WTECB) collects and maintains the longitudinal State workforce data, but has contracted with a private, non-profit research organization, the Upjohn Institute for Employment Research, to conduct analysis of the longitudinal administrative data.

The Upjohn Institute includes a number of labor economists doing applied research, frequently with large, longitudinal data sets. They have experience matching longitudinal data among States (Indiana, Georgia, Virginia, Washington and Ohio). By using a research organization, WTECB has been able to securely and effectively manage its commitment to accountability and performance monitoring. Through the Upjohn Institute, WTECB is able to track the outcomes of individuals in terms of achievement of workplace competencies, placement in employment, increases in levels of earned income, increased productivity, advancement out of services and overall satisfaction with program services and outcomes. In Washington State, there has been a focus on evaluating the returns on investment of the State workforce system in recent years.

Aside from using a research institution instead of a research university, Washington State is also unique because the SWA's high level of commitment to program evaluation through longitudinal data analysis is mirrored in the governor's office.

4. State-led Education and Workforce Longitudinal Data System—Florida: In 1971, State legislation designed to spur improved accountability in education resulted in creation of the Florida Statewide Assessment Program. This program was deliberately designed to collect a broad array of data on individuals moving through the educational system (kindergarten through post-secondary, undergraduate levels) for the express purpose of assessing student strengths and weaknesses to assist with education reform efforts. In the 1980s, the focus for data collection expanded to include career and technical education data ³, particularly at the post-secondary level. Since 1991, Florida State law has required community colleges and State universities to contribute their data to this data collection system.

³ Florida Case Study: Building a Student-Level Longitudinal Data System. The Data Quality Campaign, August 2006. http://www.dataqualitycampaign.org/files/State_Specific-Florida_2006_Site_Visit.pdf.

The breadth of this data system relies upon a collaborative data collection and retention commitment from both the Office of Educational Accountability and Information Services and the Florida Agency for Workforce Innovation (FAWI). In addition to tracking student progress through career or technical education, university or community college, FAWI compiles information from workforce and social service programs that complements the education data. This information includes data from WIA programs, the Temporary Assistance for Needy Families (TANF) program, and the State UI and Employment Service programs.

Not only is Florida's longitudinal data system a unique example, but it also shows the diversity of partnerships formed in the creation of this data system. Through the Florida Education and Training Placement Information Program (FETPIP), agencies such as the Florida Department of Corrections, the Florida Department of Education, the U.S. Department of Defense, the U.S. Office of Personnel Management, the U.S. Postal Service, the Florida Department of Management Services, the Florida Agency for Workforce Innovation, Workforce Florida and numerous others have benefitted from information sharing or analysis of available data. The analysis from the Florida workforce longitudinal database has resulted in a detailed performance measurement system that goes far beyond the measures required by DOL or ED and has allowed for in-depth evaluation of State labor and education programs.

For more information about longitudinal data systems in other ADARE States, visit the Weblinks available in the first and second footnotes.

F. Selected Benefits and Uses of State Longitudinal Data Systems

State workforce longitudinal data systems can be used for a variety of purposes. DOL has primarily used the data to conduct evaluation and research. Most States have used these systems for measuring performance of workforce and educational programs, and generally to guide program operations and program development. Localities have been interested in how their school district or local One-Stop Career Centers are performing.

• In recent years, DOL funded two evaluations ⁴ of WIA programs to determine the effectiveness of the program and its components.

⁴ Heinrich Carolyn J., Peter R. Mueser and Ken Troske. 2009. Workforce Investment Act Non-Experimental Evaluation: Final Report. Washington DC: U.S. Department of Labor. http://wdr.doleta.gov/research/keyword.cfm?fuseaction=dsp_resultDetails&pub_id=2419&mp=y. Hollenbeck, Kevin, Daniel Schroeder, Christopher T. King, and Wei-Jung Huang. 2008. Net Impact Estimates for Services Provided Through the Workforce Investment Act. Washington, DC: U.S. Department of Labor. http://wdr.doleta.gov/research/keyword.cfm?fuseaction=dsp_resultDetails&pub_id=2367&mp=y.

• In conjunction with welfare reform in the United States, DOL began administering grants for welfare-to-work programs. The ADARE alliance members came together to evaluate the welfare-to-work programs in six urban areas located in six of the ADARE States.⁵

⁵ King, Christopher T. and Peter R Mueser. 2005. Welfare and Work: Experience in Six Cities. Kalamazoo, MI: W. E. Upjohn Institute for Employment Research. http://www.upjohninstitute.org/publications/titles/waw.html.

• Washington State had a number of its State- and Federally-funded workforce programs evaluated by an outside research organization, by awarding this organization a contract and giving it access to their workforce longitudinal administrative data.⁶

⁶ Hollenbeck, Kevin M. 2003. Net Impact Estimates of the Workforce Development System in Washington State. Upjohn Institute Staff Working Paper No. 03-92. http://wdr.doleta.gov/research/keyword.cfm?fuseaction=dsp_resultDetails&pub_id=2367.

• Currently, Maryland makes use of its longitudinal data system for a wide variety of purposes. A recent study followed the employment history of graduates from high schools in a single county, for seven years. It used UI wage record data from Maryland and surrounding States, as well as data on Federal civilian and military employees to conduct analysis.

• In 2008, a multi-state study ⁷ followed the flow of TANF leavers into the labor force, measuring their employment and earnings, determining whether and when they became unemployed and whether they collected unemployment insurance. Further research has extended the analysis to examine whether they received employment services and whether these services assisted these individuals in returning to work.

⁷ O'Leary, Christopher J., and Kenneth J. Kline. 2008. UI as a Safety Net for Former TANF Recipients. Washington, DC: Office of the Assistant Secretary for Planning and Evaluation, U.S. Department of Health and Human Services. http://aspe.hhs.gov/hsp/08/UI-TANF/index.htm.

• In Texas, the Student Futures Project ⁸ has used their longitudinal administrative database to create a feedback system that has led to improvements in the direct-to-college enrollment rates from 54 percent to 62 percent between 2004 and 2009 in 10 participating local education districts. The project makes use of a number of secondary school administrative procedures (e.g., encouraging completion of student aid applications in class, taking of SATs, increasing assistance with post-secondary school applications). It assesses progress using an administrative database consisting of local education and workforce data that are collected and analyzed by the Ray Marshall Center at the University of Texas.

⁸ King, Christopher T., Deanna Schexnayder, Greg Cumpton and Chandler Stolp. 2009. Education and Work After High School: Recent Findings from the Central Texas Student Future Project. Bureau of Business Research, IC2 Institute, the University of Texas at Austin. http://centexstudentfutures.org/pubs/TBRAUG09.pdf.

The examples above show some of what can be done with State workforce longitudinal data systems. Many other uses are possible. For example, by developing these statewide or multi-state workforce longitudinal databases and linking them to comparable education databases, DOL, the States, and localities could more effectively: (1) Determine the employment outcomes for students (for secondary and post-secondary students alike), (2) identify education exit points that maximize employment and earnings of former students, (3) analyze the cost effectiveness of training programs in terms of increased earnings for individuals, (4) relate employment outcomes to training and education program funding, (5) illustrate the cost effectiveness of providing employment services programs by demonstrating whether there is a corresponding reduction in payment of UI and TANF benefits among individuals exiting the WIA and Wagner-Peyser programs, and (6) determine the impact of education achieved on the incidence of individuals participating in the UI program or the TANF program.

In the future, DOL is likely to fund projects focusing on program evaluation made possible through the development of these longitudinal workforce databases similar to the work of the ADARE States. As these databases are built, therefore, grantees should be prepared to address national research queries.

In addition, SWAs (or their data analysis partner) will be expected to use outside data resources to improve the breadth and depth of State or multi-state workforce analysis. The following are examples of potentially useful data sets that can either be directly incorporated into the workforce longitudinal data system or used in conjunction with findings generated through that data system:

i. Local Area Unemployment Statistics program (LAUS)—This is a Federal-State joint program providing monthly estimates of total employment and unemployment for areas including, census regions and divisions, States, some metropolitan areas, small labor market areas, counties and county equivalents and cities and towns of 25,000 people or more.

ii. Quarterly Census of Employment and Wages (QCEW) file—The Bureau of Labor Statistics (BLS) collects data on establishments reported by UI-covered employers, including information on industry, domain (public or private), geographic location etc., which could add information on the type of employment held by individuals in addition to wage levels and duration of employment. The establishment level information in the QCEW database is protected by the Confidential Information Protection and Statistical Efficient Act (CIPSEA) and therefore may not be shared outside the cooperative statistical system. However, States have the capability of generating a version of this dataset that is not protected by CIPSEA. Further, BLS provides to the State cooperative statistical agency the linkages of establishments from quarter to quarter. Depending on State law and policy, the version of the establishment data not protected by CIPSEA and the quarter-to-quarter establishment linkages may be provided for use in the State longitudinal data system.

iii. Business Employment Dynamics (BED)—Is a set of statistics generated from the Quarterly Census of Employment and Wages, or ES-202, program. This data set is focused on employer data at the establishment level enabling BLS to track which firms are changing hands, ceasing to exist or acquiring additional resources. The BED file is built on the UI tax reports of each establishment which shows employment changes when companies form and fold. By showing quarterly gross job losses and gains (from 1992 onward) these data can highlight the dynamic changes occurring in the job market at a very local level or aggregated up to the State level.

iv. Mass-Layoffs Statistics program (MLS)—BLS uses the volume of unemployment claims reported by each establishment in the U.S. to determine monthly mass layoff numbers. These mass layoffs are charted by month and by quarter for regions and industries and can be an effective tool to show major job losses affecting the local or State workforce.

v. Longitudinal Employer-Household Dynamics (LEHD)—The U.S. Census Bureau uses modern statistical and computing techniques to combine Federal and State administrative data on employers and employees with core Census Bureau censuses and surveys while protecting the confidentiality of people and firms that provide the data. The LEHD research program is centered on the creation and empirical analysis of confidential, longitudinally linked employer-household micro-data for Federal and State administrative purposes as well as confidential Census Bureau surveys and censuses. The LEHD's Local Employment Dynamics (LED) is a voluntary partnership between State labor market information agencies and the U.S. Census Bureau. LED uses State UI Quarterly Census of Employment and Wage data micro-data provided by States. In many of the 47 participating States, longitudinal data reaches back nearly 20 years. The LED Internet-based tools include GIS mapping and localized workforce and industry reports.

vi. Registered Apprenticeship (RA) Program Data—An additional source of data on individuals who may not be represented in other workforce programs or in the education system is through the RA program. Applicants which may include data from RA programs should note that the DOL Office of Apprenticeship is the registration agency for RA programs in 25 States and the data for RA programs in these States are maintained in DOL's Registered Apprenticeship Partners Information Data System (RAPIDS). In the other 25 States, the District of Columbia, and U.S. Territories, the registration agency is a State Apprenticeship Agency (SAA) recognized by DOL that has responsibility for registering apprenticeship programs and maintaining apprenticeship data. In cases where successful applicants propose to include apprenticeship data that are maintained in DOL's RAPIDS, a MOU, letter of intent, data-sharing agreement, or other supporting materials legally binding the use of RAPIDS, are not required. DOL will work with these grantees to provide access to apprenticeship data. Applicants should visit the DOL Office of Apprenticeship's Web site (http://www.doleta.gov/oa/stateoffices.cfm and http://www.doleta.gov/oa/stateagencies.cfm) to identify the Registration Agency appropriate for their State.

I. Funding Opportunity Description

This initiative will support development of these longitudinal databases over a three-year grant period. Applicants will be expected to clearly demonstrate their plans to build or expand these databases, store and use the data in adherence to all applicable confidentiality laws and to identify what types of analysis they will conduct with their data while protecting individual privacy for all data collected.

A. Preparing to Apply for this Solicitation: The following are important considerations for the development of State Workforce Longitudinal Administrative Data Systems (for more details, please see Section V further in this SGA).

1. Determining Capacity

In order for applicants for WDQI grants to submit plans to develop and fully implement workforce longitudinal data systems, they will have to identify their existing stage of development. Expectations for grantees will differ depending on their launch point, which will fall into one of three categories:

i. States without workforce longitudinal data systems are expected to: (1) Develop and fully implement their systems, (2) enable their new workforce systems to be linked to existing education longitudinal data systems, and (3) begin conducting basic analysis and research with their completed systems within the three-year grant period.

ii. States with partial systems are expected to: (1) Fully implement their systems, (2) enable linkages to existing education longitudinal data systems, and (3) conduct significant analysis and research with their completed systems that will be accessible to policymakers and practitioners.

iii. States with comprehensive workforce longitudinal systems are expected to: (1) Expand and extend their systems, (2) improve linkages with educational systems, (3) complete and publicize extensive longitudinal analysis and research with their systems, including developing prototype models of analysis that can be useful to other less advanced States, and (4) develop user-friendly platforms to show consumers performance data and analytical reports about education and workforce service providers.

2. Collection of Longitudinal Workforce Data

Applicants will be expected to explain the scope of the longitudinal data system which will be funded by this grant. Applicants will be asked to describe which programs will be included in the data system. At a minimum, the data systems should include disaggregated individual record data for the following programs: (1) WIA Title I, (2) Wagner-Peyser Act, (3) Trade Adjustment Assistance program data, (4) UI wage record data, (5) UI benefit data including demographic information associated with UI benefit payments, and (6) linkages to existing State education agency longitudinal data. Applicants are also encouraged to include data from other workforce programs such as Vocational Rehabilitation or RA programs. States will need to describe any State legislative barriers that impede the linking of data sources and address how such impediments will be overcome. It will also be incumbent upon SWA applicants to determine the source of all planned workforce data used to build the workforce longitudinal databases. This is particularly relevant in the case of the RA program as DOL is the registration agency and collects and houses the data for many of the State's RA programs.

Applicants should specify the planned data files—data records, elements, and fields—that will be contained in their workforce longitudinal data systems. Applicants should provide a detailed plan for designing, developing, storing and using the data as well as describe ongoing data-sharing and data storage procedures for both security and data quality purposes.

Applicants must also describe what procedures will be implemented to assure high standards of data quality as well as the protection of individual privacy. WDQI grantees are expected to be a focal point for data quality assurance and must therefore indicate what steps they will take to assure that workforce data and data received from partner agencies meets rigorous data quality standards.

3. Partnerships Among Agencies Within the State

Applicants will be expected to indicate which organizations will participate in the WDQI along with their authority and willingness to provide regular access to their data and to take an active role. Workforce data may be supplied by organizations within the SWA as well as from outside organizations. For example, UI wage records are kept by the State revenue agency in some States. The WIA program is also located outside the SWAs in some States. At a minimum, partnerships must be made with State education agencies, but cooperation is also encouraged with other State agencies, such as Vocational Rehabilitation or Apprenticeship agencies (in applicable States). Applicants should be prepared to describe potential legal or other barriers to data-sharing among partner agencies along with the strategies to overcome such barriers. Applicants should provide information about the firmness of the commitment of the partners in their efforts to assemble data.

Commitments should be demonstrated by submitting descriptions or evidence of planned or existing memoranda of understanding (MOU), letters of intent from partners, data-sharing agreements, or other supporting materials including legally binding agreements with partners.

4. Working With a Research Partner

The success of most ADARE States and other States (e.g., Kentucky, New Jersey and Wisconsin) which have worked with a State research university for building, maintaining and using their workforce longitudinal data systems offers an approach that States may use. However, alternative approaches that would maintain confidentiality and result in high-quality data systems will be considered for funding as well.

Legislation in many States does not support data-sharing between the State workforce and education agencies. As a result, for some SWAs, an alternative data storing and/or data analysis intermediary may be necessary. Private and non-profit organizations with the capacity to safely house and manipulate large data sets in accordance with State and Federal confidentiality provisions could serve as partners. Many State research universities have the capacity to carry out the building of longitudinal administrative databases and are situated advantageously throughout the country and partnerships with a State research university are a proven model (please refer to Section B. above for further information).

When working with a State research university, applicants should investigate the additional security measures that may be expected by the Institutional Review Board (IRB) of that university. The IRB will have to give approval for the State research institution's involvement in this partnership that is based on its satisfaction that the plan for confidential transfer, storage and usage of data is sound.

Alternative models will be considered under the WDQI grant programs and it will be critical that the following considerations are incorporated into any partnership model.

i. The research partner chosen by the SWA must have demonstrable capacity to assist in the collection and storage of the longitudinal workforce data.

ii. This research partner entity must be able to ensure that the data collected will be stored in accordance to local, State and Federal confidentiality provisions.

iii. This research partner will be responsible for processing data requests, conducting in-depth data analysis, preparing standard reports, responding to requests for additional papers and reporting on State and local workforce and education issues and trends as requested by external entities. It is expected, therefore, that the institution partnering with the SWA will have the capacity to fulfill these responsibilities.

5. Confidentiality

Applicants must describe the methods and procedures (e.g. through demonstrating existence of or plans to develop MOUs, letters of intent, and data-sharing agreements) for assuring the security and confidentiality of collection, storage and use of all data contained in the workforce longitudinal data system. Methods must describe how confidentiality in research, evaluation and performance management will be maintained. The responsibilities of the SWA and its partners should be enumerated and explained. Procedures for ensuring compliance with the State and Federal privacy and confidentiality statutes and regulations should be discussed, especially regarding the actual collection of data, data transmission, and the maintenance of computerized data files. Applicants should describe confidentiality procedures that will be used to protect personally identifiable information, including requirements for the reporting and publication of data. Applicants should describe under what circumstances the data will be made available, to whom and to what level of specificity in accordance with confidentiality laws.

The applicant should also include within their description of key types of personnel (see Section V.A.5 further in this SGA) reference to the level of confidentiality or access to data to which those employees will be held based on their employment status. For example, generally employees of State research universities are State employees, are therefore agents of the State workforce or education agencies and are granted access to or restricted from sensitive data based upon State laws. In addition, they are expected to observe rules set by the State university’s IRB. It can be assumed, for the purpose of this application, that all proposed employees will be subject to Federal laws governing data-sharing, transfer of data and confidentiality.

6. Data-Sharing Agreements

It is to be expected that grantees in this initiative will have partnership agreements outlining the storage, use and ongoing maintenance of the longitudinal databases. These data-sharing agreements must address: How data will be exchanged between partners, the purposes for which the data will be used, how and when the data will be disseminated, which entity maintains control of the data, which entity actually owns the data, the intended methods of ensuring confidential collection, use and storage of the data, and which entities inside and outside of the data-sharing agreements will have access to the data. Data-sharing agreements should contain specific plans for secure data transfer and storage.

It may also be advantageous for grantees to develop data-sharing agreements with DOL to obtain individual level data for various programs for which the DOL is the data administrator. DOL encourages the production of full or limited scope public use data files that will be hosted by the SWA or an agreed upon designated host.

7. Integration of Efforts With State Education Agencies

SWAs are expected to assemble (or plan to assemble) and use longitudinal administrative data beyond only workforce data. It is important to connect workforce and education data to analyze individuals’ receipt of both education and training services and to determine ways to maximize the outcomes of these services.

i. DOL encourages all SWAs which apply for WDQI grants to take their workforce longitudinal administrative database in whatever stage it may be in, develop it fully, and then enable the data to be matched with similar longitudinal education databases.

ii. SWAs with longitudinal administrative databases are encouraged to develop new approaches to link these databases with education entities collecting comparable education data as well as with other State agencies.

iii. SWAs which will be proposing to have their State workforce longitudinal data systems operated by a State university should assure that the State university staff will work closely with the State education agency as well as the SWA.

It is important to note that many of the statewide educational data systems supported by the ED are also in a State of development. On the education side there may be no longitudinal data systems in place, in which case, qualifying grantees would have to plan to link to available non-longitudinal education data, for example, individual-level post-secondary education data. If a State's education agency has a partially or fully developed statewide longitudinal education data system, it will be the responsibility of the workforce grantee to work with that agency to link the education and the workforce data. This is one example of the partnership that is expected between State workforce and education agencies in developing these linked longitudinal data systems.

Applicants must provide a description of the status of the development of the statewide longitudinal education data system in their State (e.g., nothing in place, statewide longitudinal data system planned but not yet implemented, longitudinal data system partially developed or fully developed) but they will not be penalized for planning to incorporate education data which are not yet gathered longitudinally.

For those States where the education statewide longitudinal data system is incipient or undeveloped, DOL understands that it will take time to link education data into the State workforce longitudinal database in order to contribute to longitudinal analysis. The expectation is that these grantees will use these education data for analysis as soon as they have sufficient periods of longitudinal education data matched to the workforce data.

B. Multi-State Partnerships: Collaborative approaches will result in more complete data sets and efficient use of resources. DOL encourages States to partner in submitting applications and work together on developing workforce longitudinal databases. Applicants should explain their role relative to State partners in the “Plan Outline” and “Description of Partnership Strategies” sections of their application. Collaborations among or between States may take three forms:

i. Multi-state data systems: This is the most collaborative approach and may be the most efficient, because it allows States to share technology and administrative resources. More than one State would contribute raw data into a merged matching system, maintained by the lead administrative agent, creating a multi-state workforce longitudinal data system. DOL strongly encourages this approach. The following points may be helpful in considering how to structure multi-state workforce longitudinal administrative databases:

• Look to States in close proximity whose educational capacity is robust (particularly in the case of a major State research university) in order to make assessments on which entities will be approached for a proposed partnership.

• Show figures on the interstate flow of residents through education pathways and beyond to demonstrate the usefulness of developing multi-state longitudinal databases.

• Outline the contribution of data and resources of the grant-seeking State to the multi-state longitudinal database system as it is developing or its contribution to a system already in existence.

• Anticipate what the role of this SWA will be in joining a collaborative that is either already in progress or getting underway.

ii. Individual State data systems operated by a single entity: States may not have the capacity to develop a workforce longitudinal data system on their own. They may lack appropriate staff at the SWA, State universities or other institutions to carry out this complex process. These States can still develop data systems through partnerships with a State education agency with sufficient capacity or with workforce agencies and/or research universities in other States. In such cases, two or more States would develop separate workforce longitudinal data systems at one SWA or research entity.

iii. Coordinated data-sharing and analysis: There are many urban labor markets that span State lines, presenting opportunities for innovative models in this initiative. States may choose to work alone in developing a longitudinal database, and yet still partner with agencies across State lines to share data for expanded analysis. In this case, applicants must demonstrate how they will ensure that the confidentiality provisions of each State will be adhered to.

II. Award Information

A. Award Amount

Approximately $12.2 million is available for awards under this solicitation. DOL reserves the right to award varying grant amounts depending on the quality of the applications received, the scope of the proposed activities, and the feasibility of the budget projections contained in the application; and also reserves the right to award additional grants depending on the availability of additional funds. Grant awards may be up to $1 million but must not exceed $1 million per grant for any single-state grantee. Grant awards may be up to $3 million per grant under a multi-state consortium model but are not to exceed $3 million. Applications requesting funds exceeding the amounts specified above will be found non-responsive and will not be considered.

B. Period of Performance

The period of grant performance will be up to 36 months from the date of execution of the grant documents. This performance period includes all necessary implementation and start-up activities. Applicants should plan to fully expend grant funds and submit all reports during the period of performance, while ensuring full transparency and accountability for all expenditures. Grants may be extended at no additional cost to the government with adequate justification and approval by the grant officer.

III. Eligibility Information

A. Eligible Applicants

Eligible applicants are all SWAs. These SWAs include those within the 50 States, the District of Columbia, Puerto Rico and the U.S. Virgin Islands. SWAs can apply for their individual State or they can work cooperatively with one or more SWAs in other States in a multi-state consortium or through a multi-state data-sharing agreement.

B. Cost Sharing

Cost sharing or matching funds are not required as a condition for application, but applicants should note that their plan for WDQI sustainability will be taken into account in the scoring under Section V.A.2 further in this SGA.

IV. Application and Submission Information

A. How to Obtain an Application Package

This SGA contains all of the information and links to forms needed to apply for grant funding.

B. Content and Form of Application Submission

The proposal will consist of three separate and distinct parts—(I) a cost proposal, (II) a technical proposal, and (III) attachments to the technical proposal. Applications that fail to adhere to the instructions in this section will be considered non-responsive and will not be considered. Please note that it is the applicant’s responsibility to ensure that the funding amount requested is consistent across all parts and sub-parts of the application.

Part I. The Cost Proposal. The Cost Proposal must include the following four items:

• The Standard Form (SF)-424, “Application for Federal Assistance” (available at http://www07.grants.gov/agencies/forms_repository_information.jsp and http://www.doleta.gov/grants/find_grants.cfm). The SF-424 must clearly identify the applicant and be signed by an individual with authority to enter into a grant agreement. Upon confirmation of an award, the individual signing the SF-424 on behalf of the applicant shall be considered the authorized representative of the applicant.

• Applicants must supply their D-U-N-S® Number on the SF-424. All applicants for Federal grant and funding opportunities are required to have a Data Universal Numbering System (D-U-N-S® Number). See Office of Management and Budget (OMB) Notice of Final Policy Issuance, 68 FR 38402, Jun. 27, 2003. The D-U-N-S® Number is a non-indicative, nine-digit number assigned to each business location in the Duns & Bradstreet database having a unique, separate, and distinct operation, and is maintained solely by D-U-N-S® Number. The D-U-N-S® Number is used by industries and organizations around the world as a global standard for business identification and tracking. If you do not have a D-U-N-S® Number, you can get one for free through the Small Business Solutions site: http://smallbusiness.dnb.com/webapp/wcs/stores/servlet/Glossary?fLink=glossary&footerflag=y&storeId=10001&indicator=7.

• The SF-424A Budget Information Form (available at http://www07.grants.gov/agencies/forms_repository_information.jsp and http://www.doleta.gov/grants/find_grants.cfm). In preparing the Budget Information Form, the applicant must provide a concise narrative explanation to support the request, explained in detail below.

• Budget Narrative: The budget narrative must provide a description of costs associated with each line item on the SF-424A. It should also include leveraged resources provided to support grant activities. In addition, the applicant should address precisely how the administrative costs support the project goals. The entire Federal grant amount requested should be included on both the SF-424 and SF-424A (not just one year). No leveraged resources should be shown on the SF-424 and SF-424A. Please note that applicants that fail to provide a SF-424, SF-424A, a D-U-N-S® Number, and a budget narrative will be removed from consideration prior to the technical review process.

• Applicants are also encouraged, but not required, to submit OMB Survey N. 1890-0014: Survey on Ensuring Equal Opportunity for Applicants, which can be found under the Grants.gov, Tips and Resources From Grantors, Department of Labor section at http://www07.grants.gov/applicants/tips_resources_from_grantors.jsp#13 (also referred to as Faith Based EEO Survey PDF Form).

Part II. The Technical Proposal. The applicant will present the State's overall strategy for building workforce longitudinal databases with the capacity to link to longitudinal education databases and consists of six parts: (1) Statement of Current Longitudinal Database Capacity, (2) Plan Outline, (3) Description of Partnership Strategies, (4) Description of Database Design, Data Quality Assurance and Proposed Uses, (5) Staffing Capacity, and (6) Bonus Points—Other Data Linkages. Applicants will be evaluated on the completeness and quality of their submissions. A description of the criteria that will be used to evaluate each submission and points awarded are outlined in Section V of this SGA.

The Technical Proposal is limited to 30 double-spaced single-sided pages with 12 point text font and 1 inch margins. Any materials beyond these page limits will not be read. Applicants should number the Technical Proposal beginning with page number 1. Applicants that do not provide Part II, the Technical Proposal of the application will be removed from consideration prior to the technical review process.

Part III. Attachments to the Technical Proposal. In addition to the 30-page Technical Proposal, the applicant must submit an Abstract, not to exceed one page, summarizing the proposed project including applicant name, project title, a description of the area to be served, and the funding level requested. Consortium applications must also clearly specify the lead State, which is the State serving as the fiscal agent and as the administrative lead and identify each State that is participating in the project.

The applicant may supply evidence or descriptions of planned or existing MOUs, Letters of Intent or other statements attesting to the formation of data-sharing partnerships as attachments to the Technical Proposal. Detailed descriptions/qualifications for proposed staff positions to be included in the development of these workforce longitudinal databases may also be included as an attachment. Attachments may not exceed 35 pages Any materials beyond this page limit will not be read.

C. Submission Process, Date, Times, and Addresses

The closing date for receipt of applications under this announcement is August 16, 2010. Applications must be received at the address below no later than 4 p.m. (Eastern Time). Applications sent by e-mail, telegram, or facsimile (FAX) will not be accepted. Applications that do not meet the conditions set forth in this notice will not be honored. No exceptions to the mailing and delivery requirements set forth in this notice will be granted. Mailed applications must be addressed to the U.S. Department of Labor, Employment and Training Administration, Division of Federal Assistance, Attention: Willie E. Harris, Grant Officer, Reference SGA/DFA, PY 09-10, 200 Constitution Avenue, NW., Room N4716, Washington, DC 20210. Applicants are advised that mail delivery in the Washington area may be delayed due to mail decontamination procedures. Hand-delivered proposals will be received at the above address. All professional overnight delivery service will be considered to be hand-delivered and must be received at the designated place by the specified closing date and time.

Applicants may apply online through Grants.gov (http://www.grants.gov); however, due to the expected increase in system activity applicants are encouraged to use an alternate method to submit grant applications during this heightened period of demand. While not mandatory, DOL encourages the submission of applications through professional overnight delivery service.

Applications that are submitted through Grants.gov must be successfully submitted at http://www.grants.gov no later than 4 p.m. (Eastern Time) on the closing date, and then subsequently validated by Grants.gov. The submission and validation process is described in more detail below. The process can be complicated and time-consuming. Applicants are strongly advised to initiate the process as soon as possible and to plan for time to resolve technical problems if necessary.

It is strongly recommended that before the applicant begins to write the proposal, applicants should immediately initiate and complete the “Get Registered” registration steps at http://www.grants.gov/applicants/get_registered.jsp. These steps may take multiple days or weeks to complete, and this time should be factored into plans for electronic submission in order to avoid unexpected delays that could result in the rejection of an application. It is highly recommended that applicants use the “Organization Registration Checklist” at http://www.grants.gov/assets/Organization_Steps_Complete_Registration.pdf to ensure the registration process is complete.

Within two business days of application submission, Grants.gov will send the applicant two e-mail messages to provide the status of application progress through the system. The first e-mail, almost immediate, will confirm receipt of the application by Grants.gov. The second e-mail will indicate whether the application has been successfully validated or has been rejected due to errors. Only applications that have been successfully submitted by the deadline and subsequently successfully validated will be considered. While it is not required that an application be successfully validated before the deadline for submission, it is prudent to reserve time before the deadline in case it is necessary to resubmit an application that has not been successfully validated. Therefore, sufficient time should be allotted for submission (two business days), and if applicable, subsequent time to address errors and receive validation upon resubmission (an additional two business days for each ensuing submission). It is important to note that if sufficient time is not allotted and a rejection notice is received after the due date and time, the application will not be considered.

To ensure consideration, the components of the application must be saved as either .doc, .xls or .pdf files. If submitted in any other format, the applicant bears the risk that compatibility or other issues will prevent us from considering the application. DOL will attempt to open the document but will not take any additional measures in the event of problems with opening. In such cases, the non-conforming application will not be considered for funding.

Applicants are strongly advised to use the tools and documents, including FAQs, available on the “Applicant Resources” page at http://www.grants.gov/applicants/app_help_reso.jsp#faqs. To receive updated information about critical issues, new tips for users and other time sensitive updates as information is available, applicants may subscribe to Grants.gov Updates at: http://www.grants.gov/applicants/email_subscription_signup.jsp.

If applicants encounter a problem with Grants.gov and do not find an answer in any of the other resources, call 1-800-518-4726 to speak to a Customer Support Representative or e-mail support@grants.gov.

Late Applications: For applications submitted on Grants.gov, only applications that have been successfully submitted no later than 4 p.m. (Eastern Time) on the closing date and subsequently successfully validated will be considered.

Any application received after the exact date and time specified for receipt at the office designated in this notice will not be considered, unless it is received before awards are made, it was properly addressed, and it was: (a) Sent by U.S. Postal Service mail, postmarked not later than the fifth calendar day before the date specified for receipt of applications (e.g., an application required to be received by the 20th of the month must be postmarked by the 15th of that month), or (b) sent by professional overnight delivery service to the addressee not later than one working day before the date specified for receipt of applications. Applicants take a significant risk by waiting to the last day to submit by grants.gov. “Postmarked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness. Evidence of timely submission by a professional overnight delivery service must be demonstrated by equally reliable evidence created by the professional overnight delivery service provider indicating the time and place of receipt.

D. Intergovernmental Review

This funding opportunity is not subject to Executive Order 12372, “Intergovernmental Review of Federal Programs.”

E. Funding Restrictions

Determinations of allowable costs will be made in accordance with the applicable Federal cost principles. Disallowed costs are those charges to a grant that the grantor agency or its representative determines not to be allowed in accordance with the applicable Federal cost principles or other conditions contained in the grant. Successful and unsuccessful applicants will not be entitled to reimbursement of pre-award costs.

1. Indirect Costs

As specified in OMB Circular Cost Principles, indirect costs are those that have been incurred for common or joint objectives and cannot be readily identified with a particular final cost objective. In order to use grant funds for indirect costs incurred, the applicant must obtain an Indirect Cost Rate Agreement with its Federal cognizant agency either before or shortly after grant award. State agencies should already have such agreements in place.

2. Administrative Costs

Under this SGA, an entity that receives a grant to carry out a project or program may not use more than 10 percent of the amount of the grant to pay administrative costs associated with the program or project. Administrative costs could be direct or indirect costs, and are defined at 20 CFR 667.220. Administrative costs do not need to be identified separately from program costs on the SF-424A Budget Information Form. They should be discussed in the budget narrative and tracked through the grantee's accounting system. To claim any administrative costs that are also indirect costs, the applicant must obtain an Indirect Cost Rate agreement from its Federal cognizant agency.

3. Salary and Bonus Limitations

Under Public Law 109-234, none of the funds appropriated in Public Law 109-149, or prior Acts under the heading “Employment and Training” that are available for expenditure on or after June 15, 2006, may be used by a recipient or sub-recipient of such funds to pay the salary and bonuses of an individual, either as direct costs or indirect costs, at a rate in excess of Executive Level II. Public Laws 111-8 and 111-117 contain the same limitations with respect to funds appropriated under each of those Laws. These limitations also apply to grants funded under this SGA. The salary and bonus limitation does not apply to vendors providing goods and services as defined in OMB Circular A-133 (codified at 29 CFR parts 96 and 99). See Training and Employment Guidance Letter number 5-06 for further clarification: http://wdr.doleta.gov/directives/corr_doc.cfm?DCON=2262.

4. Intellectual Property Rights

The Federal Government reserves a paid-up, nonexclusive and irrevocable license to reproduce, publish or otherwise use, and to authorize others to use for Federal purposes: (1) The copyright in all products developed under the grant, including a subgrant or contract under the grant or subgrant; and (2) any rights of copyright to which the grantee, subgrantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which are limited to the developer/seller costs of copying and shipping. If revenues are generated through selling products developed with grant funds, including intellectual property, these revenues are program income. Program income is added to the grant and must be expended for allowable grant activities.

If applicable, the following statement must be included on all products developed in whole or in part with grant funds:

“This workforce solution was funded by a grant awarded by the U.S. Department of Labor's Employment and Training Administration. The solution was created by the grantee and does not necessarily reflect the official position of the U.S. Department of Labor. The Department of Labor makes no guarantees, warranties, or assurances of any kind, express or implied, with respect to such information, including any information on linked sites and including, but not limited to, accuracy of the information or its completeness, timeliness, usefulness, adequacy, continued availability, or ownership. This solution is copyrighted by the institution that created it. Internal use by an organization and/or personal use by an individual for non-commercial purposes is permissible. All other uses require the prior authorization of the copyright owner.”

F. Other Submission Requirements

Withdrawal of Applications: Applications may be withdrawn by written notice at any time before an award is made.

V. Application Review Information

Criterion | Points
1. Statement of Current Capacity | 10
2. Plan Outline | 15
3. Description of Partnership Strategies | 30
4. Description of Database Design, Data Quality Assurance and Proposed Uses | 35
5. Staffing Capacity | 10
6. Bonus Points—Other Data Linkages | 3
Total Possible Points | 103

A. Evaluation Criteria

This section identifies required application elements that will be used to evaluate proposals for the WDQI grants. The application requirements and maximum point values are described below. Please refer back to Section I.A of this SGA for more information on the components of the application requirements listed below. Please keep in mind that the Attachments to the Technical proposal may serve as space to include additional details on components such as the planned or existing MOUs, data-sharing agreements, letters of intent or job descriptions of key staff positions, however, a brief description of such must be included in the relevant sections below.

1. Statement of Current Capacity(10 Points)

Applicants must submit a Statement of Capacity (for more information, please refer back to Section I.1) that clearly outlines the applicant's launch point, which is the extent to which the SWA (or the lead research/data-sharing entity) has developed or plans to develop data-sharing partnerships, established or plans to establish longitudinal linkages among the different data sources, and produced or plans to produce useful analysis based on linked data. Proposals from applicants with new or partially developed data systems will be evaluated based on the thoroughness of their descriptions of the potential capacity existing in their States to create a longitudinal workforce data system based on the factors below. Applicants with planned or partially developed workforce longitudinal databases are encouraged to use this section to discuss the opportunities that exist in their State for formation of the longitudinal database. Scoring for this criterion will be based on the applicant's ability to clearly demonstrate the following:

i. The capacity for maintaining secure data storage, including any partnerships that have or will be established between the SWA and another entity capable of maintaining secure data storage, such as a research entity (State university or otherwise). Partnerships are demonstrable through MOUs, data-sharing agreements or other legally binding contracts. Descriptions of existing agreements or plans to enter into agreements may be submitted as an attachment to the application, subject to the page limitations stated in Section IV.B of this SGA.

ii. Any planned or established partnerships between the SWA and the State education agency that are demonstrable through planned or existing MOUs, data-sharing agreements or other legally binding contracts. Descriptions of these may be submitted as an attachment to the application, subject to the page limitations stated in Section IV.B of this SGA. Applicants with new or partially developed longitudinal workforce databases should provide a detailed description of the steps they plan to take to develop these partnerships.

iii. Any existing or planned data linkages for data sets such as (but not limited to) wage record data, employment and training services data, UI benefits data, TANF data, WIA, Wagner-Peyser and Trade Adjustment Assistance program data.

iv. The extent to which the existing or proposed data-sharing partnerships have yielded or will yield statistical analysis and/or reporting on the State workforce system to inform stakeholders such as employment services customers, educators, policy makers, service providers and elected officials. Applicants with new or partially developed longitudinal workforce databases may also describe the need to have such data available for research and analysis.

v. Any partnerships with agencies in neighboring States which have come about through a commitment to share data in an effort to gather information on individuals traveling over State lines in pursuit of education or employment. Partnerships are demonstrable through MOUs, data-sharing agreements, or other legally binding contracts. Applicants with new or partially developed longitudinal workforce databases should provide a detailed description of the steps they plan to take to develop these partnerships. Descriptions of these planned or existing agreements may be submitted as an attachment to the application, subject to the page limitation stated in Section IV.B of this SGA.

Responses to the criteria in this section establish the baseline status of each applicant. A thorough statement will give the applicant as well as the grant reviewers valuable insight into the true scope of the project design.

2. Plan Outline (15 Points)

Once an assessment of capacity is complete, it will be possible to make a plan for expanding or improving workforce longitudinal databases. It is important that the applicant integrate information about the current status of any existing longitudinal workforce database with the plan to proceed forward under this grant opportunity. For this section applicants should provide a complete, but brief overview since many of the same requirements listed below will be expanded upon in Sections V.A.3 through V.A.6. Scoring of this section will be based on of the ability of the applicant demonstrate a sound structural plan. The plan outline must:

i. Describe the State's objectives for creating or upgrading and using its workforce longitudinal data system and explain how the State plans to achieve these objectives. The appropriateness of the objectives and plans will be judged relative to the State's current data system capacity. Depending on the State's launch point, objectives should include a description of the plans for:

• Creating or expanding workforce longitudinal databases.

• Improving the quality of workforce data.

• Developing or expanding the capacity to match workforce and education data.

• Using data for analysis that will help policymakers and practitioners understand the performance of workforce and education programs.

• For applicants with a partially or fully developed workforce longitudinal database, creating user-friendly portals to publicize the data in ways that help consumers choose between different education and training programs.

ii. Describe the status of the statewide longitudinal education data system in their State. Applicants will have to work with the State education agency to determine whether that State has begun to plan for their SLDS, has a partially developed or fully implemented SLDS program. The application should include a description of the SLDS plan and which sets of education data are part of the SLDS. If neither of these exist, the applicant must be prepared to indicate what education data sets (consistent with the requirements of Section V.A.4 in the SGA) they will incorporate into their workforce longitudinal data system until the State education agency is able to generate longitudinal education data to match with. (For basic information on the SLDS, see the following ED Web site: http://nces.ed.gov/Programs/SLDS/ and the following Data Quality Campaign Web site: http://www.dataqualitycampaign.org/.)

iii. Specify whether the State is applying alone or as a member of a multi-state consortium or whether it plans to develop joint data-sharing or cooperative data analysis agreements with neighboring States.

• If applicants will be working with another State(s) to develop their workforce longitudinal database, the application must include: (1) Which States are part of the collaboration, (2) which State will take the lead role in developing the workforce longitudinal databases and which State(s) will be providing their workforce data, (3) how confidentiality will be protected in the case of multiple States in accordance with each State's confidentiality regulations, and (4) brief descriptions of any planned or existing legally binding agreements (e.g., MOUs, data-sharing agreements) between/among the partner States which ensure that each State is aware of its role and the expectations of workload in the event that a grant is awarded.

• If applicants will be planning on sharing and/or using another State's longitudinal data to produce analysis on a shared labor market, the following must be included in the application: (1) A list of the State(s) involved in the data-sharing partnership, (2) a clear outline of which State will be providing data (in this case, both or all States may provide data) and which will be receiving data (again, both or all States may receive data in this role), (3) identification of which State will be the lead fiscal agent and the lead administrative agent, and (4) a brief description of any planned or existing legally binding agreements (e.g. MOUs, data-sharing agreements) between/among partner States that outline the expectations of the data-sharing and explaining in detail how confidentiality will be protected according to Federal and State laws.

iv. Explain plans for sustaining these workforce longitudinal databases beyond the three-year grant period. Applicants should consider how their planned or existing MOUs and Data-Sharing Agreements will be renewed with their partners to ensure continued maintenance and analysis of the longitudinal workforce data. Continued Federal funding cannot be guaranteed, so applicants are expected to research viable alternative funding sources and describe them in this section.

3. Description of Partnership Strategies (30 Points)

Applicants must describe their strategy to create, sustain, strengthen or expand partnerships and maintain working relationships within and outside the State workforce system. In each of these partner relationships, the SWA applicants are expected to document their proposed arrangements with State education agencies, which may include providing brief descriptions of existing or proposed MOUs, letters of support, and/or detailed plans for working relationships and shared responsibilities.

SWAs without the internal capacity to operate the longitudinal data system will need to partner with an external entity (such as a research university or a private or non-profit organization) to develop, maintain and use the longitudinal database, both operationally and for research purposes.

Multi-state applicants must demonstrate capacity to either establish or improve upon established partnerships that enable sharing workforce data with other States. In the case of a multi-state application, the lead fiscal agent/State should be the same as the lead administrative agent/State and must be identified along with a complete list of additional State partners. Multi-state applicants must also identify the partnerships among agencies/entities within each of the member States in response to the points listed below.

In all cases partnerships must be forged in gathering relevant workforce and education data. The applicant must clearly describe the existing or proposed partnerships and briefly describe the data that the partner will be providing for the initiative (for more details, please refer back to Section I.A of this SGA).

Note that States with a developed or partially developed workforce longitudinal database should focus on describing maintenance and expansion of partnerships, as a description of existing partnerships should have already been provided in the Statement of Current Capacity.

Scoring under this section will be based on the extent to which the applicant demonstrates an effective plan to execute or to expand the following:

i. Partnerships Within State Workforce Systems

The applying SWA must demonstrate capacity to either establish or improve arrangements for sharing workforce data.

ii. Partnerships With State Education Agencies

The applicant must demonstrate capacity to establish or maintain a relationship with the State education agency leading the SLDS initiative. Partnerships must be established that will create the capacity to link data between education and workforce databases to support longitudinal data analyses and to provide performance information from secondary and post-secondary training providers to the workforce system and consumers.

iii. Partnerships With Research Universities or Other Research Entities

If the applicant does not have internal capacity to develop or operate a longitudinal data system, it must demonstrate the ability to establish or further develop a relationship with the research entity (State university or otherwise) or other entities that will be/are engaged in the development of longitudinal data systems. Partnerships must be established/expanded that will ensure that the collection of longitudinal workforce data adheres to local, State and Federal confidentiality laws. Further, these partnerships must support the ongoing security and confidentiality of these databases for as long as they are in existence. This research university or other entity will be expected to conduct in-depth analysis of this longitudinal data and to produce standard reports and conduct specialized research projects and ongoing analysis.

iv. Partnerships With Additional State Agencies

This includes (but is not restricted to) agencies such as the State revenue department, in such instances where UI, WIA or other programs are administered in full or in part in such an agency or another agency outside of the SWA. Moreover, it may be advantageous for SWAs to partner with State economic, human services or other agencies in the event that such a partnership may provide an opportunity to match individual level data to the workforce longitudinal database.

4. Description of Database Design, Data Quality Assurance and Proposed Uses (35 Points)

Applicants must provide the details of the existing or proposed database design and explain how the design will help achieve the applicant's objectives. States with a developed or partially developed workforce longitudinal database should describe the existing database design, confidentiality measures and data analysis, and provide a detailed description of the intended design of or expansions to data content and usage. Applicants will be scored under this section on the extent to which they are able to demonstrate the actual or intended use of the following elements:

i. Personal Identifier

Applicants must explain how the database will be developed or has been developed using the Social Security Number (SSN) as a unique personal identifier for individuals entering into the workforce system, in addition to jobseekers and employees already in the workforce system. The SSN is already in use throughout the workforce system and will allow States to gather this data longitudinally in order to accurately track movement into and out of workforce and education systems. Collection of the client's SSN is not required throughout the workforce system and may not be required as a condition of receiving workforce development services, and though it is nearly uniformly collected on a voluntary basis, DOL recognizes that the workforce longitudinal databases will be restricted to those individuals having supplied their SSN and will therefore not represent a complete database of all persons receiving workforce development services. These longitudinal databases should also include the capacity to link to unique identifiers developed by the ED statewide longitudinal data systems.

ii. Data Quality Measures

The applicant must provide a description of development or improvement of data validation measures and other quality assurance measures used to promote the quality, completeness, validity, and reliability of the data collected.

iii. Scope of the Longitudinal Data

Applicants must describe which programs are or will be included in the data system and the extent to which the following data will or can be matched through their longitudinal data system:

• Workforce Investment Act (WIA), Title I.

• Wagner-Peyser Act.

• Trade Adjustment Assistance and Trade Readjustment Allowances program data.

• UI wage record information from quarter to quarter measuring employment and income earning gains.

• UI benefit claims and demographic data.

• FEDES data.

• Existing State education agency data (including early childhood, K-12, and post-secondary education student demographic data, test scores, teachers, graduation rates, and transcripts).

Applicants must also include a description of the types of analysis and research projects that will be conducted with the workforce longitudinal database to improve program performance and enhance customer choice. For examples of effective uses of workforce longitudinal databases, please refer above to “Selected Benefits and Uses of State Longitudinal Data Systems” in the “Background” section of this SGA.

iv. Security Measures

Applicants must specify the plans they will develop or improve to protect the confidentiality of these records. The method for storing, transferring, analyzing and sharing data must be detailed in accordance with State and Federal confidentiality provisions. Applicants should also specify the planned data files—data records, elements, and fields—that will be contained in their workforce longitudinal data systems. Applicants should describe who will be designing, developing, storing, protecting and using the data.

v. Planned Reports/Deliverables

Applicants creating the longitudinal database must include in this section of the application their plans to produce reports that provide information about statewide performance of the workforce system. Applicants with partially or fully developed workforce longitudinal databases must describe the extensive research and analysis products that will be generated beyond the regular reporting and analysis requirements. Applicants must address how data from each partner will be incorporated into these reports, and how stakeholders can use the reports to improve the workforce system. Applicants should also describe their plan for disseminating reports and materials to the general public. These deliverables are for statewide or multi-state use and though DOL reserves the right to request access to these planned reports, submission of these deliverables to DOL is not required. (Required reports on performance in development of the workforce longitudinal databases to be submitted to DOL are outlined in Section VI.C below)

5. Staffing Capacity (10 Points)

Applicants must describe the proposed or existing staffing structure for this project, including project manager(s) and support staffing needs. Applicants will be scored on this section based on the thoroughness of their description of the following:

i. The workforce longitudinal database must be overseen by a Database Manager who is qualified to work with large and complex administrative longitudinal databases. The applicant must clearly list the duties and responsibilities of this position. The applicant must also describe the kinds of prior experience that the Database Manager (or other key managerial staff member) must possess in order to fulfill these duties and responsibilities.

ii. The duties and responsibilities of a data analyst(s).

iii. The identification and qualifications of proposed staff positions including knowledge, skills and abilities as well as examples of the kinds of previous experience that make a candidate for the position highly qualified to assist with planning, implementing and conducting analysis with these longitudinal databases. Detailed position descriptions may be included in the “Attachments to the Technical Proposal” within the page limits.

iv. How each staff member will be expected to facilitate or contribute to the various data-sharing partnerships. Be sure to include a brief discussion of how the applicant will ensure that any staff of this project will comply with State and Federal confidentiality laws. Please verify that State employees (with the workforce agency, other agencies or a State research institution for example) are already subject to State and institutional laws, regulations or procedures governing confidential data-sharing and/or transfer (please refer back to Section I.A.5 for more details) and be sure to include this in your description of such staff under this section.

v. What entity is to be the actual employer of each proposed staff member. For those who are not direct employees of the SWA, discuss how these individuals will contribute to the project and describe what their compensation levels will be.

6. Bonus Points—Other Data Linkages (3 Points)

Up to three additional points may be awarded to applicants based on the extent to which they demonstrate concrete and feasible plans to include additional sources of data in their proposed longitudinal data system. These additional data sources may include Vocational Rehabilitation program information, Registered Apprenticeship program data, TANF records, Supplemental Nutrition Assistance Program (Food Stamps) records, and data from other similar programs which may yield workforce-related outcomes. These points will be awarded based on the ability of applicants to demonstrate their ability and their intentions to incorporate additional data sets and also on the number of additional data sets they intend to include into their proposed or existing longitudinal databases.

B. Review and Selection Process

Applications for grants under this solicitation will be accepted after the publication of this announcement and until the closing date. A technical review panel will make a careful evaluation of applications against the criteria. These criteria are based on the policy goals, priorities, and emphases set forth in this SGA. Up to 103 points may be awarded to an application, depending on the quality of the responses to the required information described in Section V.A above. The ranked scores will serve as the primary basis for selection of applications for funding, in conjunction with other factors such as geographical balance; the availability of funds; and which proposals are most advantageous to the government. The panel results are advisory in nature and not binding on the Grant Officer, and the Grant Officer may consider any information that comes to his/her attention. The government may elect to award the grant(s) with or without discussions with the applicants. Should a grant be awarded without discussions, the award will be based on the applicant's signature on the SF-424, which constitutes a binding offer by the applicant including electronic signature via E-Authentication on http://www.grants.gov.

Part VI. Award Administration Information

A. Award Notices

All award notifications will be posted on the ETA Homepage (http://www.doleta.gov). Applicants selected for award will be contacted directly before the grant's execution and non-selected applicants will be notified by mail. Selection of an organization as a grantee does not constitute approval of the grant application as submitted. Before the actual grant is awarded, the Department may enter into negotiations about such items as program components, staffing and funding levels, and administrative systems in place to support grant implementation. If the negotiations do not result in a mutually acceptable submission, the Grant Officer reserves the right to terminate the negotiation and decline to fund the application.

B. Administrative and National Policy Requirements

1. Administrative Program Requirements

All grantees will be subject to all applicable Federal laws, regulations, and the applicable OMB Circulars. The grant(s) awarded under this SGA will be subject to the following administrative standards and provisions:

i. Non-Profit Organizations—OMB Circulars A-122 (Cost Principles) and 29 CFR part 95 (Administrative Requirements).

ii. Educational Institutions—OMB Circulars A-21 (Cost Principles) and 29 CFR part 95 (Administrative Requirements).

iii. State and Local Governments—OMB Circulars A-87 (Cost Principles) and 29 CFR part 97 (Administrative Requirements).

iv. Profit Making Commercial Firms—Federal Acquisition Regulation (FAR)—48 CFR part 31 (Cost Principles), and 29 CFR Part 95 (Administrative Requirements).

v. All entities must comply with 29 CFR Parts 93 and 98, and, where applicable, 29 CFR parts 96 and 99.

vi. 29 CFR part 2, subpart D—Equal Treatment in Department of Labor Programs for Religious Organizations, Protection of Religious Liberty of Department of Labor Social Service Providers and Beneficiaries.

vii. 29 CFR part 31—Nondiscrimination in Federally Assisted Programs of the Department of Labor—Effectuation of Title VI of the Civil Rights Act of 1964.

viii. 29 CFR part 32—Nondiscrimination on the Basis of Handicap in Programs and Activities Receiving or Benefiting from Federal Financial Assistance.

iv. 29 CFR part 33—Enforcement of Nondiscrimination on the Basis of Handicap in Programs or Activities Conducted by the Department of Labor.

x. 29 CFR part 35— Nondiscrimination on the Basis of Age in Programs or Activities Receiving Federal Financial Assistance from the Department of Labor.

xi. 29 CFR part 36—Nondiscrimination on the Basis of Sex in Education Programs or Activities Receiving Federal Financial Assistance.

The following administrative standards and provisions may be applicable:

i. The Workforce Investment Act of 1998, Public Law 105-220, 112 Stat. 939 (codified as amended at 29 U.S.C. 2801 et seq.) and 20 CFR part 667 (General Fiscal and Administrative Rules).

ii. 29 CFR part 29 and 30—Apprenticeship and Equal Employment Opportunity in Apprenticeship and Training; and

iii. 29 CFR Part 37—Implementation of the Nondiscrimination and Equal Opportunity Provisions of the Workforce Investment Act of 1998.

The Department notes that the Religious Freedom Restoration Act (RFRA), 42 U.S.C. sec. 2000bb, applies to all Federal law and its implementation. If your organization is a faith-based organization that makes hiring decisions on the basis of religious belief, it may be entitled to receive Federal financial assistance under Title I of the Workforce Investment Act and maintain that hiring practice even though section 188 of the Workforce Investment Act contains a general ban on religious discrimination in employment. If you are awarded a grant, you will be provided with information on how to request such an exemption.

iv. Under WIA section 181(a)(4), health and safety standards established under Federal and State law otherwise applicable to working conditions of employees are equally applicable to working conditions of participants engaged in training and other activities. Applicants that are awarded grants through this SGA are reminded that these health and safety standards apply to participants in these grants.

In accordance with section 18 of the Lobbying Disclosure Act of 1995 (Pub. L. 104-65) (2 U.S.C. 1611) non-profit entities incorporated under Internal Revenue Service Code section 501(c) (4) that engage in lobbying activities are not eligible to receive Federal funds and grants.

Except as specifically provided in this SGA, DOL's acceptance of a proposal and an award of Federal funds to sponsor any programs(s) does not provide a waiver of any grant requirements and/or procedures. For example, the OMB Circulars require that an entity's procurement procedures must ensure that all procurement transactions are conducted, as much as practical, to provide open and free competition. If a proposal identifies a specific entity to provide services, DOL's award does not provide the justification or basis to sole source the procurement, i.e., avoid competition, unless the activity is regarded as the primary work of an official partner to the application.

2. Special Program Requirements

DOL will require that the program or project participate in a formal evaluation of overall grant performance. DOL will provide both a technical assistance and evaluation provider to assist grantees in developing and implementing each State's WDQI to ensure smooth implementation and execution. To measure the success of the grant program, DOL will conduct an independent evaluation of the outcomes and benefits of the grants. Grantees must agree to work with DOL's designated evaluation and technical assistance providers and to provide access to program operating and technical personnel, as specified by the evaluator(s) under the direction of DOL, including after the expiration date of the grant.

C. Reporting

The grantee must submit quarterly financial reports, quarterly progress reports, and Management Information System (MIS) data electronically. The grantee is required to provide the regular reports and documents listed below:

1. Quarterly Financial Reports

A Quarterly Financial Status Report (ETA 9130) is required until such time as all funds have been expended or the grant period has expired. Quarterly reports are due 45 days after the end of each calendar year quarter. Grantees must use DOL's On-Line Electronic Reporting System and information and instructions will be provided to grantees.

2. Quarterly Progress Reports

The grantee must submit a quarterly progress report within 45 days after the end of each calendar year quarter. In the quarterly progress reports, grantees will be expected to address the status of developing MOUs with their intended partners as outlined in their grant application in addition to other partnerships they foster. Grantees should also take this opportunity to share the progress they are making with obtaining access to longitudinal workforce data (please see Section V.4.A.4 above of this SGA for a list of the data elements required). If the grantee is working with a developed or partially developed workforce longitudinal database, it must briefly describe the capacity of its database, and how it is being securely maintained and then explain in much greater depth the status of its plans to expand upon its present capacity.

3. Design Plan

The first report to be furnished on this project will be a detailed design plan which will expand upon and operationalize the activities proposed in this grant application as outlined in Part V of this SGA. This report must include a timeline which incorporates all project stages, milestones, targets and proposed schedule of deliverables stemming from the analysis of State workforce data for statewide dissemination. The grantee must submit a budget allotting the expenditure of this grant over the three year period including, but not limited to, considerations for equipment, personnel, fees and fixed costs. This report will be due to DOL 60 days after execution of final grant award.

4. Final Report

A draft final report must be submitted no later than 60 days before the expiration date of the grant. This report must summarize project activities, outcomes, and related results of the project, and should thoroughly document approaches. After responding to DOL questions and comments on the draft report, an original and two copies of the final report must be submitted no later than the grant expiration date. Grantees must agree to use a designated format specified by DOL for preparing the final report.

This information must be presented in narrative form and must include description of: Activities within the quarter being reported on, how problems or barriers from the previous quarter, if any, were addressed, any problems or challenges in the current quarter, how milestones or activities were successfully completed in the current quarter and plans for the next quarter. Also, reports should include updates on expected products or deliverables both for statewide dissemination and those to be submitted to DOL. Reports should include lessons learned in the areas of project administration and management, project implementation, partnership relationships, and other related information. DOL will provide grantees with guidance and tools to help develop the quarterly reports once the grants are awarded. Grantees must agree to meet DOL reporting requirements.

5. Record Retention

Applicants should be aware of Federal guidelines on record retention, which require grantees to maintain all records pertaining to grant activities for a period of not less than three years from the time of final grant close-out.

VII. Agency Contacts

For further information regarding this SGA, please contact Willie E. Harris, Grant Officer, Division of Federal Assistance, at (202) 693-3344 (this is not a toll-free number). Applicants should e-mail all technical questions to harris.willie@dol.gov and must specifically reference SGA/DFA PY 09-10, and along with question(s), include a contact name, fax and phone number.

This announcement is being made available on the ETA Web site at http://www.doleta.gov/grants and at http://www.grants.gov.

VIII. Additional Resources of Interest to Applicants

A. Resources for the Applicant

OMB Information Collection No. 1225-0086.

Expires November 30, 2012.

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, to the attention of Darrin A. King, Departmental Clearance Officer, 200 Constitution Avenue NW., Room N1301, Washington, DC 20210. Comments may also be e-mailed to DOL_PRA_PUBLIC@dol.gov. Please do not return the completed applications to this address. Send it to the sponsoring agency as specified in this solicitation.

This information is being collected for the purpose of awarding a grant. The information collected through this SGA will be used by DOL to ensure that grants are awarded to the applicant best suited to perform the functions of the grant. Submission of this information is required in order for the applicant to be considered for award of this grant. Unless otherwise specifically noted in this announcement, information submitted in the respondent's application is not considered to be confidential.

Willie E. Harris is the grant officer overseeing this SGA.

Signed at Washington, DC this 11th day of May, 2010.
Eric Luetkenhaus,
Grant Officer.

[FR Doc. 2010-11610 Filed 5-14-10; 8:45 am]

BILLING CODE 4510-FN-P